ENVIRONMENTAL PROTECTION AGENCY

[ER-FRL-9016-4]

Environmental Impact Statements; Notice of Availability

Responsible Agency: Office of Federal Activities, General Information (202) 564-7146 or http://www.epa.gov/compliance/nepa/.

Weekly receipt of Environmental Impact Statements

Filed 07/28/2014 Through 08/01/2014

Pursuant to 40 CFR 1506.9.

Notice

Section 309(a) of the Clean Air Act requires that EPA make public its comments on EISs issued by other Federal agencies. EPA's comment letters on EISs are available at: http://www.epa.gov/compliance/nepa/eisdata.html.

SUPPLEMENTARY INFORMATION: The document listed below was inadvertently omitted from EPA's Notice of Availability of EISs published in the Federal Register on Friday, August 8, 2014.

EIS No. 20140220, Draft EIS, APHIS, 00, Determinations of Nonregulated Status for Dicamba-Resistant Soybean and Cotton Varieties, Monsanto Petitions (10-188-01p and 12-185-01p), Comment Period Ends: 09/25/2014, Contact: Sid Abel 301-851-3896.

Dated: August 6, 2014.
Dawn Roberts,
Management Analyst, NEPA Compliance Division, Office of Federal Activities.

[FR Doc. 2014-18900 Filed 8-8-14; 8:45 am]

BILLING CODE 6560-50-P